DEPARTMENT OF ENERGY

Federal Energy Regulatory Commission

[Docket No RP02-357-001]

Questar Pipeline Company; Notice of Compliance Filing

August 28, 2002.

Take notice that on August 5, 2002, Questar Pipeline Company (Questar) tendered for filing as part of its FERC Gas Tariff, First Revised Volume No. 1, Substitute Seventh Revised Sheet No. 172 and Original Sheet No. 172A, effective July 7, 2002.

Questar states that the filing is being made in compliance with the Commission's July 5, 2002 order in Docket No. RP02-357-000.

Questar states that the tariff sheets reflect the inclusion of a provision to credit Rate Schedule PAL1 revenues to Rate Schedule FSS customer to the extent that PAL1 daily charge revenues exceed the cost of providing the PAL1 service. It is proposed that each 12-month period beginning February 1, 2002, Questar states that it will determine the amount of daily charge revenues from Rate Schedule PAL1 and will pay or credit the FSS customers 75% of the PAL1 daily charge revenues that exceeded the $1,341,523 cost of service determined in Docket No. RP02-357-000.

Questar states that a copy of this filing has been served upon all parties.

Any person desiring to protest said filing should file a protest with the Federal Energy Regulatory Commission, 888 First Street, NE., Washington, DC 20426, in accordance with section 385.211 of the Commission's Rules and Regulations. All such protests must be filed on or before September 4, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22487 Filed 9-3-02; 8:45 am]

BILLING CODE 6717-01-P